COMMITTEE FOR THE IMPLEMENTATION OF TEXTILE AGREEMENTS

Adjustment of Import Charges for Certain Cotton and Man-Made Fiber Textile Products Produced or Manufactured in Pakistan

November 9, 2001.

AGENCY: Committee for the Implementation of Textile Agreements (CITA).

ACTION: Issuing a directive to the Commissioner of Customs adjusting import charges.

EFFECTIVE DATE: November 14, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

In response to a request by the Government of Pakistan regarding differences in calculation of the quantity of import charges between Pakistan authorities and the U.S. Customs Service for the 1998, 1999, and 2000 agreement years, CITA is adjusting import charges to certain categories for the 2001 agreement year.

A description of the textile and apparel categories in terms of HTS numbers is available in the CORRELATION: Textile and Apparel Categories with the Harmonized Tariff Schedule of the United States (see Federal Register notice 65 FR 82328, published on December 28, 2000). Also see 65 FR 66972, published on November 8, 2000.

D. Michael Hutchinson,
Acting Chairman, Committee for the Implementation of Textile Agreements.

Committee for the Implementation of Textile Agreements

November 9, 2001.

Commissioner of Customs,

Department of the Treasury, Washington, DC 20229.

Dear Commissioner: This directive amends, but does not cancel, the directive issued to you on November 2, 2000, by the Chairman, Committee for the Implementation of Textile Agreements. That directive concerns imports of certain cotton and man-made fiber textile products produced or manufactured in Pakistan and exported during the twelve-month period which began on January 1, 2001 and extends through December 31, 2001.

Effective on November 14, 2001, you are directed to deduct the following quantities from the charges to the year 2001 limits for Pakistan:

Category | Amount to be Deducted
331/631 | 39,233 dozen pairs.
338 | 41,325 dozen.
340/640 | 3,711 dozen.
347/348 | 21,038 dozen.
351/651 | 5,067 dozen.
360 | 152,355 numbers.
361 | 211,663 numbers.
363 | 2,051,331 numbers.
369-F/369-P | 139,653 kilograms.
369-S | 27,152 kilograms.
647/648 | 2,794 dozen.
666-P | 48,457 kilograms.
666-S | 183,840 kilograms.

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc. 01-28625 Filed 11-9-01; 3:58 pm]

BILLING CODE 3510-DR-S